FEDERAL HOUSING FINANCE BOARD

Sunshine Act Meeting; Announcing an Open Meeting of the Board

Time and Date: 10 a.m., Thursday, September 12, 2002.

PLace: Board Room, Second Floor, Federal Housing Finance Board, 1777 F Street, NW., Washington, DC 20006.

Status: The entire meeting will be open to the public.

Matter to be Considered:

• Standards of Conduct

• Final Rule—Affordable Housing Program

• Finance Board's Fiscal Year 2003 Budget

• Office of Finance Board of Directors Appointment (Tentative)

Contact Person for More Information: Elaine L. Baker, Secretary to the Board, (202) 408-2837.

Arnold Intrater,
General Counsel.

[FR Doc. 02-23067 Filed 9-6-02; 12:12 pm]

BILLING CODE 6725-01-P